DEPARTMENT OF HEALTH AND HUMAN SERVICES

Centers for Disease Control and Prevention

National Institute for Occupational Safety and Health

ACTION: Notice.

SUMMARY: The National Institute for Occupational Safety and Health (NIOSH) of the Centers for Disease Control and Prevention (CDC) announces the following: Availability of opportunity for the public to enter into a Cooperative Research and Development Agreement (CRADA) to reduce noise emissions from powered hand tools.

Notice: This notice invites manufacturers of electric and pneumatic-powered hand tools to enter into a cooperative research and development agreement (CRADA) with NIOSH and some of the leading technical experts on noise control engineering in the United States to reduce noise emissions from powered hand tools. By reducing the noise emissions of electric and pneumatic powered hand tools, the risk of noise-induced hearing loss among construction workers may be lowered. Additional efficiency in tool performance may also be realized as tool designs are optimized to reduce vibration and noise emissions.

This effort will identify sources of noise emissions in powered hand tools and will investigate ways to reduce the noise emissions through engineering noise control. NIOSH has successfully worked with university partners to analyze several classes of tools (e.g. table saws, pneumatic nail guns, and air compressors) and demonstrated that significant reductions in noise levels can be achieved through application of noise control engineering. Furthermore, NIOSH expects to partner with academic programs that have advanced technical expertise, acoustic test facilities and specialized equipment, software and data analysis necessary for such an effort. NIOSH is seeking an industrial partner in a CRADA so that particular problems of interest can be targeted for investigation. The industry partners will provide power tools for investigation of noise source identification, product life cycle testing of new designs, and nominal funding of $50,000 to defray expenses in the effort.

NIOSH expects to provide up to $50,000 per year over a three-year CRADA agreement. The CRADA defines the role of the various partners regarding intellectual rights, publications, and the material and financial resources that are exchanged during the period of the agreement. At this time, this announcement seeks to identify potential partners in the effort. Detailed development of the CRADA will occur over the next eight months, with the partnership beginning in October 2006.

This announcement does not obligate NIOSH to enter into an agreement with any respondent. NIOSH reserves the right to establish a partnership based on engineering analysis and capabilities found by way of this announcement or other searches, if determined to be in the best interest of the government.

FOR FURTHER INFORMATION CONTACT: Charles S. Hayden, NIOSH, Hearing Loss Prevention Team, 4676 Columbia Parkway, Cincinnati, Ohio 45226, 513/533-8152. Information requests can also be submitted by e-mail to chayden@cdc.gov.

The Director, Management Analysis and Services Office, has been delegated the authority to sign Federal Register notices pertaining to announcements of meetings and other committee management activities for both CDC and the Agency for Toxic Substances and Disease Registry.

Dated: March 9, 2006.
Alvin Hall,
Director, Management Analysis and Services Office, Centers for Disease Control and Prevention.

[FR Doc. E6-3720 Filed 3-14-06; 8:45 am]

BILLING CODE 4163-18-P